DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: 2001 Annual Demographic Survey—Supplement to the Current Population Survey.

Form Number(s): CPS-580, CPS-580(SP), CPS-676, CPS-676(SP).

Agency Approval Number: 0607-0354.

Type of Request: Revision of a currently approved collection.

Burden: 33,563 hours.

Number of Respondents: 80,550.

Avg Hours Per Response: 25 minutes.

Needs and Uses: The Census Bureau conducts the Annual Demographic Survey (ADS) every year in March in conjunction with the Current Population Survey (CPS). The Census Bureau, the Bureau of Labor Statistics, and the Department of Health and Human Services sponsor this supplement. In the ADS, we collect information on work experience, personal income and noncash benefits, household noncash benefits, health insurance coverage, participation in welfare reform benefits, race, and migration. ADS data are used by social planners, economists, Government officials, and market researchers to gauge the social and economic well-being of the Nation as a whole, and selected population groups of interest.

The 2001 ADS questionnaire contains the same items that were in the 2000 ADS, with the addition of two questions and revisions to certain items. These changes are the result of recently completed Census Bureau research into the effectiveness of the welfare-related questions and questions on cash assistance and health insurance.

We also plan to increase the sample size for the ADS by approximately 30,550 respondents. Congressional passage of the State Children's Health Insurance Program (SCHIP), also known as Title XXI, as part of the Balanced Budget Act of 1997, instructs the U.S. Census Bureau to provide more reliable estimates of those individuals participating in SCHIP. In response, the Census Bureau selected the CPS to be the vehicle for measuring the estimates and to increase the sample size so that more reliable estimates can be obtained.

Affected Public: Individuals or households.

Frequency: Annually.

Respondent's Obligation: Voluntary.

Legal Authority: Title 13 U.S.C., Section 182; Title 29 U.S.C., Sections 1-9.

OMB Desk Officer: Susan Schechter, (202) 395-5103.

Copies of the above information collection proposal can be obtained by calling or writing Madeleine Clayton, DOC Forms Clearance Officer, (202) 482-3129, Department of Commerce, room 6086, 14th and Constitution Avenue, NW, Washington, DC 20230 (or via the Internet at MClayton@doc.gov).

Written comments and recommendations for the proposed information collection should be sent within 30 days of publication of this notice to Susan Schechter, OMB Desk Officer, room 10201, New Executive Office Building, Washington, DC 20503.

Dated: August 31,2000.
Madeleine Clayton,
Departmental Forms Clearance Officer, Office of the Chief Information Officer.

[FR Doc. 00-22826 Filed 9-5-00; 8:45 am]

BILLING CODE 3510-07-P